DEPARTMENT OF ENERGY

Comment Period for Specific Individuals for the Supplement to the Draft Environmental Impact Statement for a Geologic Repository for the Disposal of Spent Nuclear Fuel and High-Level Radioactive Waste at Yucca Mountain, Nye County, NV

AGENCY: Department of Energy (DOE).

ACTION: Notice of comment period for specific individuals.

SUMMARY: On May 4, 2001, the U.S. Department of Energy (DOE) published a Notice of Availability (66 FR 22540) of its Supplement to the Draft Environmental Impact Statement for a Geologic Repository for the Disposal of Spent Nuclear Fuel and High-Level Radioactive Waste at Yucca Mountain, Nye County, Nevada (Draft EIS) (DOE/EIS-0250D-S) and announced a 45-day public comment period ending June 25, 2001. In response to requests from the public, DOE extended the comment period to July 6, 2001 (66 FR 33534). DOE has discovered that some individuals had requested and received a copy of the Draft EIS, but were not sent the Supplement to the Draft EIS. DOE has now distributed the Supplement to those individuals, and will accept comments from those individuals transmitted or postmarked by August 13, 2001.

DATES: Comments from specific individuals who received a copy of the Supplement with a June 22, 2001 letter from DOE regarding this oversight are now due by August 13, 2001. DOE will consider all comments received from those individuals by that date in preparing the Final EIS. Comments received from those individuals after August 13, 2001 will be considered to the extent practicable.

ADDRESSES: Written comments and requests for further information on the Supplement to the Draft EIS, and requests for copies of the document (hard copy or CD-ROM) should be directed to: Dr. Jane Summerson, EIS Document Manager, M/S 010, U.S. Department of Energy, Office of Civilian Radioactive Waste Management, Yucca Mountain Site Characterization Office, P.O. Box 30307, North Las Vegas, Nevada 89036-0307, Telephone 1-800-967-3477, Facsimile 1-800-967-0739.

Written comments via facsimiles should include the following identifier: “Yucca Mountain Supplement to the Draft EIS.”

Written comments on or requests for copies of the document may also be submitted over the internet via the Yucca Mountain Project website at http://www.ymp.gov, under the listing “Environmental Impact Statement.”

FOR FURTHER INFORMATION CONTACT: Dr. Jane Summerson, EIS Document Manager, M/S 010, U.S. Department of Energy, Office of Civilian Radioactive Waste Management, Yucca Mountain Site Characterization Office, P.O. Box 30307, North Las Vegas, Nevada 89036-0307, Telephone 1-800-967-3477, Facsimile 1-800-967-0739.

For general information on the DOE NEPA process, contact: Ms. Carol M. Borgstrom, Director, Office of NEPA Policy and Compliance (EH-42), U.S. Department of Energy, 1000 Independence Avenue, SW., Washington, DC 20585, Telephone 202-586-4600, or leave a message at 1-800-472-2756.

Issued in Washington, DC, June 25, 2001.
Lake Barrett,
Acting Director, Office of Civilian Radioactive Waste Management.

[FR Doc. 01-16420 Filed 6-28-01; 8:45 am]

BILLING CODE 6450-01-P